DEPARTMENT OF DEFENSE

Department of the Army

Draft Environmental Impact Statement for the Renewal of Special Use Permit for Military Activities on the De Soto National Forest and Implementation of Installation Mission Support Activities at Camp Shelby, MS

AGENCY: Department of the Army, DoD.

ACTION: Notice of availability.

SUMMARY: This Draft Environmental Impact Statement (DEIS) has been prepared by National Guard Bureau (NGB) and the United States Department of Agriculture—Forest Service (USDA-FS). NGB is the lead agency and the USDA-FS is serving as a cooperating agency in the development of this DEIS for the renewal of the current Special Use Permit (SUP) that authorizes military training activities at Camp Shelby Joint Forces Training Center.

DATES: The public comment period for the DEIS will end 45 days after publication of an NOA in the Federal Register by the U.S. Environmental Protection Agency.

ADDRESSES: Written comments or questions regarding the DEIS may be forwarded to Major Danny Blanton, Public Affairs Officer, Joint Forces Headquarters, Mississippi National Guard, P.O. Box 5027, Jackson, MS 39296-5027.

FOR FURTHER INFORMATION CONTACT: Major Danny Blanton, Public Affairs Officer, Joint Forces Headquarters, Mississippi National Guard, at (601) 313-6349. The alternate point of contact for this action is Lieutenant Colonel Robert A. Piazza, Mississippi Army National Guard, Director Environmental Program at (610) 313-6228.

SUPPLEMENTARY INFORMATION: This DEIS discusses in-depth two alternatives: The Preferred Alternative and the No-Action Alternative. Under the Preferred Alternative, the Mississippi National Guard (MSNG) proposes the renewal of the USDA-FS SUP for a 20-year timeframe and authorizes current activities and mission requirements to continue on State of Mississippi, DoD, and National Forest lands. This alternative will help meet the Army requirements associated with the Proposed Action by constructing various new ranges and facilities at Camp Shelby and allowing for the continuation of necessary maintenance, repair, and rehabilitation of the infrastructure at Camp Shelby. The No Action Alternative would authorize the renewal of the SUP for a 10-year timeframe (same as previous SUP) and military activities would continue as currently permitted. This alternative would not authorize the proposed construction of new ranges and facilities and improved management practices. Other alternatives considered but eliminated from detailed study are addressed in the DEIS. The potential for significant impacts exists for both alternatives, however with the implementation of the ongoing and proposed mitigation and monitoring measures, the unavoidable adverse impacts can be mitigated to an acceptable level. Under the preferred alternative, current activities and mission requirements will continue on State of Mississippi, DoD, and National Forest lands. This alternative includes implementation of the projects discussed in this DEIS, in addition to the continuation of necessary maintenance, repair, and rehabilitation of the military training infrastructure at Camp Shelby. Environmental consequences for the Proposed Action and No Action Alternative, have been analyzed. The new project proposals have the potential for the following significant adverse impacts:

(1) Direct and/or indirect effects on approximately 250 gopher tortoise (federal threatened species) burrows;

(2) Direct and/or indirect effects on habitat for other Proposed, Endangered, Threatened, and Sensitive (PETS) species such as Louisiana quillwort (federal endangered species), black pine snake (federal candidate species), and other state and USDA-FS sensitive plant species. There would be direct positive effects on the red-cockaded woodpecker when colonies are relocated into the proposed Habitat Management Area at some time in the future;

(3) Direct and/or indirect effects on approximately 275 acres of wetlands (requiring fill of an estimated 20 acres of wetlands);

(4) Direct effects by removal of approximately 120 acres for pine and hardwood forested areas;

(5) Direct effects by movement of approximately 250,000 cubic yards of earth, and resulting direct and/or indirect effects from erosion and sedimentation;

(6) The potential environmental impacts associated with the Combined Arms Area (CAA) reconfiguration warrant a separate discussion. The proposed CAA reconfiguration would result in an approximate 4,300-acre reduction in size and the amount of unavoidable potential significant adverse impacts associated with forest clearing/thinning and maneuver area usage from the CAA addressed and approved for construction in the 1994 SUP EIS. This large maneuver area is about 12 percent complete (approximately 5,000 acres) based on the 1994 design. The MSNG and USDA-FS propose to reconfigure the CAA to reduce environmental impacts from the original design while still meeting the military training needs. The proposed reconfigured CAA would still produce potential significant adverse impacts; however, it would definitely be an improvement from an environmental standpoint over the original plan (and within the scope of the effects analyzed and documented in the 1994 SUP EIS). While the wetland acreage (approximately 2,719 acres), gopher tortoise burrow numbers (3,015 burrows), and Louisiana quillwort colonies appear to be significant, the relatively minor impacts to date on the completed portion of the CAA places the potential effect of the reconfiguration into perspective given the overall reduction in acreage.

Additional information on the DEIS is available at the following Web site: http://www.ngms.state.ms.us/env/Natural%20Resources/nat_resources_06.htm.

Dated: March 14, 2007.
Addison D. Davis, IV,
Deputy Assistant Secretary of the Army (Environment, Safety, and Occupational Health).

[FR Doc. 07-1571 Filed 3-29-07; 8:45 am]

BILLING CODE 3710-08-M